DEPARTMENT OF EDUCATION

[CFDA NO.: 84.162A]

Emergency Immigrant Education Program; Notice Inviting Applications for New Awards for Fiscal Year (FY) 2000

AGENCY: Department of Education.

Purpose of Program: This program provides grants to State educational agencies (SEAS) to assist local educational agencies (LEAS) that experience unexpectedly large increases in their student population due to immigration. These grants are to be used to provide high-quality instruction to immigrant children and youth and to help those children and youth make the transition into American society and meet the same challenging State performance standards expected of all children and youth.

Eligible Applicants: State educational agencies.

Deadline For Transmittal of Applicants: March 17, 2000.

Deadline for Intergovernmental Review: May 19, 2000.

Applications Available: January 24, 2000.

Available Funds: $150 million.

Note: The Department is not bound by any estimates in this notice.

Project Period: Up to 17 months.

Applicable Regulations: (a) The Education Department General Administrative Regulations (EDGAR) in 34 CFR Parts 76, 77, 79, 80, 81, 82, and 85; and (b) 34 CFR Part 299.

SUPPLEMENTARY INFORMATION: An SEA is eligible for a grant if it meets the eligibility requirements specified in sections 7304 and 7305 of the Elementary and Secondary Education Act of 1965 (the Act), as amended by the Improving America's Schools Act of 1994 (Pub. L. 103-382, enacted October 20, 1994). (20 U.S.C. 7544 and 7545). In order to receive an award under this program, an SEA must provide a count, taken during February 2000, of the number of immigrant children and youth enrolled in public and nonpublic schools in eligible LEAs in accordance with the requirements specified in section 7304 of the Act. An eligible LEA is one in which the number of immigrant children and youth enrolled in the public and nonpublic elementary and secondary schools within the district is at least either 500 or 3 percent of the total number of students enrolled in those public and nonpublic schools. (20 U.S.C. 7544(b)(2)). Under section 7501(7) of the Act, the term immigrant children and youth means individuals who are aged 3 through 21, were not born in any State, and have not been attending one or more schools in any one or more States for more than 3 full academic years. (20 U.S.C. 7601(7)).

FOR APPLICATIONS OR INFORMATION CONTACT: Darlene Miles, U.S. Department of Education, 400 Maryland Avenue, SW, Room 5620, Switzer Building, Washington, D.C. 20202-6510. Telephone: (202) 205-8259. Harpreet Sandhu, U.S. Department of Education, Maryland Avenue, SW, Room 5617, Switzer Building, Washington D.C. 20202-6510. Telephone (202) 205-9808. Brenda Turner, U.S. Department of Education, 400 Maryland Avenue, SW, Room 5629, Switzer Building, Washington, D.C. 20202-6510. Telephone: (202) 205-9839. Individuals who use a telecommunications device for the deaf (TDD) may call the Federal Information Relay Service (FIRS) at 1-800-877-8339.

Individuals with disabilities may obtain this document in an alternate format (e.g., Braille, Large Print, Audiotape, or computer diskette) on request to the contact persons listed in the preceding paragraph.

Electronic Access to This Document

You may view this document, as well as all other Department of Education documents published in the Federal Register in text or Adobe Portable Document Format (PDF) on the Internet at either of the following sites:

http://ocfo.ed.gov/fedreg, htm

http://www.ed.gov/news, html

To use the pdf you must have the Adobe Acrobat Reader Program with search, which is available free at either of the previous sites. If you have questions about using the PDF, call the U.S. Government Printing Office toll free at 1-888-293-6498; or in the Washington, D.C. area at (202) 512-1530.

Note: The official version of this document is the document published in the Federal Register. Free Internet access to the official edition of the Federal Register and the Code of Federal Regulations is available on GPO Access at: http://www.access.gpo.gov/nara/index.html.

Program Authority: 20 U.S.C. 7541-7549.

Dated: January 14, 2000.
Art Love,
Acting Director, Office of Bilingual Education and Minority Languages Affairs.

[FR Doc. 00-1398 Filed 1-19-00; 8:45 am]

BILLING CODE 4001-01-P